DEPARTMENT OF JUSTICE

Notice of Lodging of Consent Decree Pursuant to the Clean Air Act

Notice is hereby given that on July 14, 2010, a proposed Consent Decree in United States v. City of Tacoma, Civ. A. No. 3:10-cv-05497, was lodged with the United States Court for the Western District of Washington in Tacoma.

In this action, the United States sought penalties pursuant to Section 608(c) of the Clean Air Act, 42 U.S.C. 7671g, against the City of Tacoma's Public Works Department. The Complaint alleges that Defendant failed to comply with regulations issued pursuant to Section 608(c) of the CAA—40 CFR Part 82, Subpart F—that makes the knowing venting or release of Class I or II refrigerants into the environment during the disposal of a refrigerant-containing appliance unlawful. The Complaint alleges the City of Tacoma, through its Solid Waste Management Division that is internal to the Public Works Department, illegally released regulated refrigerant into the environment for almost three years dating from October 2004 to August 2007 at its municipal landfill.

Pursuant to the proposed Consent Decree, Defendant will pay to the United States a civil penalty of $224,684 and perform a Supplemental Environmental Project that will cost approximately $269,783. The SEP consists of the City purchasing a hydraulic launch assist refuse collection vehicle, purchasing a pluggable hybrid electric terminal truck to replace one of the City's diesel yard tractors, and retrofitting 10 of its municipal diesel vehicles with diesel particulate filters. The hydraulic launch assist refuse collection vehicle is designed to be more efficient by using energy created during braking as well as increase fuel economy and reduce particulate emissions typically emitted from traditional refuse collection vehicles. The pluggable hybrid electric terminal truck is designed to decrease diesel fuel use and reduce emissions as well as increase the City's fuel economy. The diesel particulate filters are aimed to reduce particulate matter emissions as well as carbon monoxide and hydrocarbons emissions. Overall, these projects are intended to help improve air quality in and around the City's municipal landfill by reducing smog-forming chemicals such as ground level ozone, particulates, and nitrous oxides (as well as carbon dioxide).

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Tacoma, Civ. A. No. 3:10-cv-05497 (Western District of Washington), Department of Justice Case Number 90-5-2-1-09582.

During the public comment period, the Consent Decree may be examined at the Office of the United States Attorney, Western District of Washington, 700 Stewart Street, Suite 5220, Seattle, WA 98101-1271. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury.

Maureen Katz,
Assistant Chief, Environmental Enforcement Section, Environment and Natural Resources Division.

[FR Doc. 2010-17602 Filed 7-19-10; 8:45 am]

BILLING CODE 4410-15-P